ENVIRONMENTAL PROTECTION AGENCY

[Petitions IV-2024-1; FRL-11985-01-R4]

Clean Air Act Operating Permit Program; Order on Petition for Objection to State Operating Permit for DCP Operating Company L.P. (Mobile County, Alabama)

AGENCY: Environmental Protection Agency (EPA).

ACTION: Notice of final order on petition.

SUMMARY: The EPA Administrator signed an order dated May 10, 2024, granting in part and denying in part the petition dated January 8, 2024, from Mobile Environmental Justice Action Coalition and GASP. The petition requested that EPA object to Clean Air Act (CAA) title V operating permit issued by the Alabama Department of Environmental Management (ADEM) to DCP Operating Company L.P. for its natural gas treatment and processing facility located in Mobile Bay, Mobile County, Alabama.

FOR FURTHER INFORMATION CONTACT: Art Hofmeister, Air Permits Section, EPA Region 4, (404) 562-9115, hofmeister.art@epa.gov. The final order and petitions are available at: https://www.epa.gov/title-v-operating-permits/title-v-petition-database.

SUPPLEMENTARY INFORMATION: EPA received a petition from Mobile Environmental Justice Action Coalition and GASP dated January 8, 2024, requesting that EPA object to the issuance of operating permit no. 503-8085, issued by ADEM to DCP Operating Company L.P. in Mobile Bay, Mobile County, Alabama. On May 10, 2024, the EPA Administrator issued an order granting in part and denying in part the petition. The order itself explains the bases for EPA's decision. Sections 307(b) and 505(b)(2) of the CAA provide that a petitioner may request review of those portions of an order that deny issues in a petition. Any petition for review shall be filed in the United States Court of Appeals for the appropriate circuit no later than July 30, 2024.

Dated: May 22, 2024.
Jeaneanne Gettle,
Acting Regional Administrator, Region 4.

[FR Doc. 2024-12016 Filed 5-30-24; 8:45 am]

BILLING CODE 6560-50-P